ENVIRONMENTAL PROTECTION AGENCY

[EPA-HQ-OAR-2022-0046; FRL-10258-01-OMS]

Information Collection Request Submitted to OMB for Review and Approval; Comment Request; NESHAP for Group I Polymers and Resins (Renewal)

AGENCY: Environmental Protection Agency (EPA).

ACTION: Notice.

SUMMARY: The Environmental Protection Agency has submitted an information collection request (ICR), NESHAP for Group I Polymers and Resins (EPA ICR Number 2410.05, OMB Control Number 2060-0665), to the Office of Management and Budget (OMB) for review and approval in accordance with the Paperwork Reduction Act. This is a proposed extension of the ICR, which is currently approved through November 30, 2022. Public comments were previously requested, via the Federal Register, on April 8, 2022, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 31, 2022.

ADDRESSES: Submit your comments, referencing Docket ID Number EPA-HQ-OAR-2022-0046, EPA online using https://www.regulations.gov/ (our preferred method), or by email to docket@epa.gov, or by mail to: EPA Docket Center, Environmental Protection Agency, Mail Code 28221T, 1200 Pennsylvania Ave. NW, Washington, DC 20460. The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Group I Polymers and Resins (40 CFR part 63, subpart U) were proposed on June 12, 1995; promulgated on September 5, 1995, and amended on: June 19, 2000; July 16, 2001; December 16, 2008; and April 21, 2011. These regulations apply to existing and new elastomer product process units (EPPU) and associated equipment, including waste management units, maintenance wastewater, heat exchange systems, and equipment required either by or utilized to comply with this Subpart located at facilities that are major sources of hazardous air pollutants (HAPs) and are classified in the Group I Polymers and Resins source category. The Group I Polymers and Resins source category includes the following categories: Butyl Rubber Production, Epichlorohydrin Elastomers Production, Ethylene Propylene Rubber Production, Hypalon Production, Neoprene Production, Nitrile Butadiene Rubber (NBR) Production, Polybutadiene Rubber Production, Polysulfide Rubber Production, and Styrene Butadiene Rubber and Latex Production. New facilities include those that either commenced construction, or reconstruction after the date of proposal. This information is being collected to assure compliance with 40 CFR part 63, subpart U.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Facilities with elastomer product process units (EPPU) and associated equipment.

Respondent's obligation to respond: Mandatory (40 CFR part 63, subpart U).

Estimated number of respondents: 19 (total).

Frequency of response: Initially, occasionally, and semiannually.

Total estimated burden: 56,400 hours (per year). Burden is defined at 5 CFR 1320.3(b).

Total estimated cost: $12,000,000 (per year), which includes $5,230,000 in annualized capital/startup and/or operation & maintenance costs.

Changes in the Estimates: There is an insignificant increase in burden from the most recently approved ICR due to an adjustment. This increase (not reflected in the rounded total) is not due to any program changes. The adjustment increase is due to a correction of the calculation used to summarized the burden estimates for individual reporting requirements.

Since there are no changes in the regulatory requirements and there is no significant industry growth, there are no changes in the capital/startup and/or operation and maintenance (O&M) costs.

Courtney Kerwin,
Director, Regulatory Support Division.

[FR Doc. 2022-21122 Filed 9-28-22; 8:45 am]

BILLING CODE 6560-50-P